DEPARTMENT OF JUSTICE

Antitrust Division

Notice Pursuant to the National Cooperative Research and Production Act of 1993—Distributed Management Task Force, Inc.

Notice is hereby given that, on September 17, 2004, pursuant to section 6(a) of the National Cooperative Research and Production Act of 1993, 15 U.S.C. 4301 et seq. (“the Act”), Distributed Management Task Force, Inc. (“DMTF”) has filed written notifications simultaneously with the Attorney General and the Federal Trade Commission disclosing (1) the name and principal place of business of the standards development organization and (2) the nature and scope of its standards development activities. The notifications were filed for the purpose of invoking the Act's provisions limiting the recovery of antitrust plaintiffs to actual damages under specified circumstances.

Pursuant to section 6(b) of the Act, the name and principal place of business of the standards development organization is: Distributed Management Task Force, Inc., Portland, OR. The nature and scope of DMTF's standards development activities are: To develop standards for common management infrastructure components for instrumentation, control, and communications in a platform-independent and technology neutral way. DMTF technologies include information models (CIM), communication/control protocols (WBEM), and core management services/utilities.

Dorothy B. Fountain,
Deputy Director of Operations, Antitrust Division.

[FR Doc. 04-25841 Filed 11-19-04; 8:45 am]

BILLING CODE 4410-11-M